ENVIRONMENTAL PROTECTION AGENCY

[EPA-HQ-2006-0735; FRL-8446-7]

Draft Risk Assessment Report for Lead

AGENCY: Environmental Protection Agency (EPA).

ACTION: Notice of a draft for public review and comment.

SUMMARY: On or about July 31, 2007, the Office of Air Quality Planning and Standards (OAQPS) of EPA will make available for public review and comment a draft technical support document in EPA's review of the national ambient air quality standards (NAAQS) for lead, Lead Human Exposure and Health Risk Assessments for Selected Case Studies (Draft Risk Assessment Report). The purpose of the Draft Risk Assessment Report is to describe the design, methodology and results of the human exposure and health risk assessments for lead.

DATES: Comments on the Draft Risk Assessment Report must be received on or before August 29, 2007.

ADDRESSEES: Submit your comments, identified by Docket ID No. EPA-HQ-OAR-2006-0735, by one of the following methods:

• www.regulations.gov: follow the on-line instructions for submitting comments.

• E-mail: Comments may be sent by electronic mail (e-mail) to a-and-r-Docket@epa.gov, Attention Docket ID No. EPA-HQ-OAR-2006-0735.

• Fax: Fax your comments to: 202-566-9744, Attention Docket ID. No. EPA-HQ-OAR-2006-0735.

• Mail: Send your comments to: Air and Radiation Docket and Information Center, Environmental Protection Agency, Mail Code: 6102T, 1200 Pennsylvania Ave., NW., Washington, DC, 20460, Attention Docket ID No. EPA-HQ-OAR-2006-0735.

• Hand Delivery or Courier: Deliver your comments to: EPA Docket Center, 1301 Constitution Ave., NW., Room 3334, Washington, DC. Such deliveries are only accepted during the Docket's normal hours of operation, and special arrangements should be made for deliveries of boxed information.

Instructions: Direct your comments to Docket ID No. EPA-HQ-OAR-2006-0735. The EPA's policy is that all comments received will be included in the public docket without change and may be made available online at www.regulations.gov (including any personal information provided, unless the comment includes information claimed to be Confidential Business Information (CBI) or other information whose disclosure is restricted by statute). Do not submit information that you consider to be CBI or otherwise protected through www.regulations.gov, or e-mail. The www.regulations.gov is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Docket in the EPA Docket Center, (EPA/DC) EPA West, Room 3334, 1301 Constitution Ave., NW., Washington, DC. This Docket Facility is open from 8:30 a.m. to 4:30 p.m., Monday through Friday, excluding legal holidays. The Docket telephone number is (202) 566-1742; fax (202) 566-9744.

FOR FURTHER INFORMATION CONTACT: Dr. Zachary Pekar, Office of Air Quality Planning and Standards (mail code C504-06), U.S. Environmental Protection Agency, Research Triangle Park, NC 27711; e-mail: pekar.zachary@epa.gov; telephone: (919) 541-3704; fax: (919) 541-0237.

General Information

A. What Should I Consider as I Prepare My Comments for EPA?

1. Submitting CBI. Do not submit this information to EPA through www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

SUPPLEMENTARY INFORMATION: Under section 108(a) of the Clean Air Act (CAA), the Administrator identifies and lists certain pollutants which “cause or contribute to air pollution which may reasonably be anticipated to endanger public health or welfare.” The EPA then issues air quality criteria for listed pollutants, which are commonly referred to as “criteria pollutants.” The air quality criteria are to “accurately reflect the latest scientific knowledge useful in indicating the kind and extent of all identifiable effects on public health or welfare which may be expected from the presence of [a] pollutant in the ambient air, in varying quantities.” Under section 109 of the CAA, EPA establishes NAAQS for each listed pollutant, with the NAAQS based on the air quality criteria. Section 109(d) of the CAA requires periodic review and, if appropriate, revision of existing air quality criteria. The revised air quality criteria reflect advances in scientific knowledge on the effects of the pollutant on public health or welfare. The EPA is also required to periodically review and revise the NAAQS, if appropriate, based on the revised criteria.

Lead is one of six criteria pollutants for which EPA has established air quality criteria and NAAQS. Presently, EPA is reviewing the air quality criteria and NAAQS for lead. The EPA completed its Air Quality Criteria for Lead (“Criteria Document”) in October, 2006 (71 FR 57508; September 29, 2006).

As part of its review of the NAAQS, EPA is preparing a human exposure and health risk assessment.

In December 2006, a first draft of a technical support document, Lead Human Exposure and Health Risk Assessments and Ecological Risk Assessment for Selected Areas (Pilot Phase) was released by EPA for public review and comment and for review by the Clean Air Scientific Advisory Committee (CASAC) of EPA's Science Advisory Board (71 FR 69117; November 29, 2006) at a public meeting held in February 2007. An analysis plan for the risk assessment was previously reviewed by CASAC and the public. Comments received from review of the draft plan and draft pilot phase risk assessment technical support document have been considered in developing the Draft Risk Assessment Report being released at this time.

The draft report, Lead Human Exposure and Health Risk Assessment for Selected Case Studies, describes the design, methodology and results of the human exposure and health risk assessments for lead. It describes and presents the results from a lead exposure analysis and health risk assessment involving several case studies. The draft document will be available online at: http://www.epa.gov/ttn/naaqs/standards/pb/s_pb_cr_td.html.

The EPA is soliciting advice and recommendations from the CASAC by means of a review on the draft Risk Assessment Report at an upcoming public meeting of the CASAC. A Federal Register notice will inform the public of the date and location of that meeting. Following the CASAC meeting, EPA will consider comments received from the CASAC and the public in preparing a final Risk Assessment Report.

Dated: July 19, 2007.
Stephen D. Page,
Director, Office of Air Quality Planning and Standards.

[FR Doc. E7-14601 Filed 7-26-07; 8:45 am]

BILLING CODE 6560-50-P